DEPARTMENT OF THE INTERIOR

Bureau of Indian Affairs

Information Collection Submitted to the Office of Management and Budget for Review Under the Paperwork Reduction Act; Correction

AGENCY: Bureau of Indian Affairs, Interior.

ACTION: Notice; correction.

SUMMARY: On August 28, 2000, the Bureau of Indian Affairs published a 60-day notice in the Federal Register (65 FR 52123) inviting comments on the proposed renewal of the collection of information in 25 CFR part 151, Land Acquisitions, OMB No. 1076-0100. One comment was received to the Federal Register notice.

This notice addresses the comment that was inadvertently omitted in the 30-day notice published in the Federal Register on November 3, 2000 (65 FR 66257). The comment suggested that Indian tribes be required to consult with local governments or other potentially interested parties prior to an Indian tribe's submission of an application. The comment was not accepted because there is no statutory requirement that Indian tribes consult with local governments or other interested parties prior to beginning the application process.

All other information published in the November 3, 2000 notice remains unchanged.

FOR FURTHER INFORMATION CONTACT: Larry E. Scrivner or Helen R. Latall, Bureau of Indian Affairs, Division of Real Estate Services, MS 4510-MIB, 1849 C Street, NW, Washington, DC 20240, telephone (202) 208-7737.

Dated: December 20, 2000.
Kevin Gover,
Assistant Secretary—Indian Affairs.

[FR Doc. 01-582 Filed 1-8-01; 8:45 am]

BILLING CODE 4310-02-P